DEPARTMENT OF COMMERCE

International Trade Administration

Announcement of Approved International Trade Administration Trade Mission

AGENCY: International Trade Administration, Department of Commerce

SUMMARY: The United States Department of Commerce, International Trade Administration (ITA), is announcing one upcoming trade mission that will be recruited, organized, and implemented by ITA. This mission is: Advanced Manufacturing Business Development Mission to Türkiye and Poland—September 21-27, 2025. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify the above for all of the companies it seeks to represent on the mission.

In addition, each applicant must:

• Certify that the products and services that it wishes to market through the mission would be in compliance with U.S. export controls and regulations.

• Certify that it has identified any matter pending before any bureau or office in the Department of Commerce.

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers, and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including the likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Advanced Manufacturing Business Development Mission to Türkiye and Poland, September 21-27, 2025

Summary

The United States Department of Commerce, International Trade Administration (ITA), is organizing an Advanced Manufacturing Business Development Mission to Türkiye and Poland September 21 through September 27, 2025. The purpose of this business development mission is to expand opportunities for U.S. companies in advanced manufacturing markets in Türkiye and Poland, with a focus on digital technologies and services, industrial automation, and precision machinery.

The business development mission will bring a minimum of 12 and maximum of 20 firms and/or trade associations will be selected to participate in the mission from across the U.S. advanced manufacturing sector to Türkiye and Poland.

The mission's primary goal will be to increase U.S. exports to each market by raising brand awareness of U.S. technology solutions in advanced manufacturing and identifying opportunities for commercial collaboration. The mission will help participating firms and trade associations gain market insights, make industry contacts, solidify business strategies, and advance specific projects and initiatives in the target markets. By participating in an official U.S. industry delegation, rather than traveling to the region individually, U.S. industry representatives will enhance their ability to secure meetings and gain greater exposure to each market, as well as leverage the networks of pre-screened industry buyers, distributors, and industry stakeholders developed by commercial specialists. In addition, this business development mission provides the U.S. government a platform to advocate on behalf of U.S. companies that also aligns with and advances U.S. policy objectives, including manufacturing supply chain resiliency and the adoption of international standards related to advanced manufacturing.

Türkiye Stop

Türkiye's youthful population, vibrant entrepreneurial sector, and strategic location linking Europe and Asia have established it as a pivotal manufacturing and distribution hub. The country harnesses competitive advantages like lower labor costs and adaptable production capabilities, boosting manufacturing's GDP share to 22.2% in 2022 from 19.1% in 2020. Key sectors like automotive and aviation, with major international companies with extensive local supplier networks, lead in adopting advanced manufacturing technologies.

Aligned with EU standards through a customs union, Türkiye faces the challenge of meeting new environmental regulations, necessitating significant investments in cleantech solutions. Türkiye's 2023 Industry and Technology Strategy outlines incentives for R&D and digital transformation across 300+ product categories, including in the aerospace, defense, electronics, and pharmaceuticals sectors.

Türkiye anticipates annual investments of $1 to $1.5 billion over the next decade to integrate advanced manufacturing solutions. The industrial automation market, valued at $1.8 billion in 2022, is poised for 15% annual growth, with projections to reach $2.5 billion within the next three years. Internet of Things (IoT) sales surged to $1.2 billion in 2021, indicative of expanding digital integration across industries.

With a focus on enhancing its manufacturing capabilities, Türkiye is keen to explore U.S. advanced manufacturing technologies to foster bilateral trade relations and ensure competitiveness on the global stage.

The mission stop in Türkiye will include a market briefing by the Consulate's Interagency Country Team and meetings with advanced manufacturing organizations. The delegation will also participate in individualized business to business and business to government meetings, and join a networking reception hosted at the Consul General's Residence in Istanbul.

Poland Stop

Poland is an increasingly attractive market for advanced manufacturing technologies, with many leading companies looking to Poland as a hub for their Central and Eastern European supply chains and sales networks. Despite the COVID-19 pandemic and the war in Ukraine, Polish manufacturing continues to develop at a rapid pace, including in key sectors such as: automotive, metal products, rubber and plastic, electrical equipment, chemicals and chemical products, non-metallic mineral products, basic metals, furniture, paper and paper products, machinery and equipment, computer, electronic, and optical products. U.S. firms will find ample potential in the local market, with the Polish Government increasingly prioritizing this sector and pushing for development and investment. In 2019, the Polish Government established The Future Industry Platform, a non-profit Polish governmental foundation, supervised by the Ministry of Development Funds and Regional Policy, with the aim to accelerate the digital transformation of Polish industry. There are a variety of potential funding sources, both at the local and EU level, that are accessible to firms in Poland, including the Horizon Europe funds: the EU's research & innovation funding program for 2021-2027 with a budget of EUR 95.5 billion

The mission stop in Poland will include a multi-day program focusing on creating connections between mission delegates and key public and private sector stakeholders. The delegation will receive a welcome market briefing by the Commercial Counselor and Embassy Warsaw Deal Team, and join plenary and roundtable discussions on market issues, best practices, and finding local partners. The delegation will also participate in individualized business to business and business to government meetings, as well as join a networking reception hosted at the Chief of Mission Residence, plus other networking opportunities throughout the visit.

Proposed Timetable
[* Note: The final schedule and potential site visits will depend on the availability of host government and business officials, specific goals of mission participants, and ground transportation.]
Sunday, September 21, 2025 | • Business development mission participants arrive in Istanbul.
| • Welcome reception.
Monday, September 22, 2025 | • Morning: Market intelligence briefing by ITA's commercial team and industry leaders.
| • Various site visits.
Tuesday, September 23, 2025 | • B2B meetings between U.S. companies and associations, and relevant Turkish stakeholders.
| • Evening: Networking reception at the Consul General's Residence.
Wednesday, September 24, 2025 | • AM-Travel to Warsaw, Poland (there are four daily direct flights to Warsaw from Istanbul).
| • Market intelligence briefing by ITA's commercial team and Embassy interagency experts.
| • Welcome reception.
Thursday, September 25, 2025 | • Policy panel discussions with Polish government stakeholders and industry experts.
| • Potential site visits.
| • Evening: Networking reception at U.S. Ambassador's Residence.
Friday, September 26, 2025 | • B2B meetings between U.S. companies and associations, and relevant Polish stakeholders.
| • Closing luncheon.
Saturday, September 27, 2025 | • Return to U.S.

Participation Requirements

All parties interested in participating in the business development mission must complete and submit an application package for consideration by the Department of Commerce. All applicants will be evaluated on their ability to meet certain conditions and best satisfy the selection criteria as outlined below. A minimum of 12 and a maximum of 20 firms and/or trade associations will be selected to participate in the mission from the applicant pool.

Fees and Expenses

After a firm or trade association has been selected to participate in the mission, a payment to the Department of Commerce in the form of a participation fee is required. The participation fee for the Business Development Mission will be $6,300 for small or medium-sized enterprises (SME) ¹; and $7,900 for large firms or trade associations. The fee for each additional firm representative (large firm or SME/trade organization) is $1,000.00. Expenses for travel, lodging, meals, and incidentals will be the responsibility of each mission participant. Interpreter and driver services can be arranged for additional cost. Delegation members will be able to take advantage of U.S. Embassy rates for hotel rooms.

¹ Small Business: Must qualify as a “small business” under the Small Business Administration's size standards, which vary by North American Industry Classification System (NAICS) Code.

Medium Business: Must have less than $1B in annual revenue (including affiliates: parent, child, subsidiaries, divisions, etc.) to qualify.

If and when an applicant is selected to participate in a particular mission, a payment to the Department of Commerce in the amount of the designated participation fee above is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is canceled, no personal expenses paid in anticipation of a mission will be reimbursed. However, participation fees for a canceled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Business development mission members participate in missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeframe for Recruitment and Applications

Mission recruitment will be conducted in an open and public manner, including publication in the Federal Register, posting on the Commerce Department trade mission calendar (http://www.trade.gov/trade-missions) and other internet websites, press releases to general and trade media, direct mail, notices by industry trade associations and other multiplier groups, and publicity at industry meetings, symposia, conferences, and trade shows. Recruitment for the mission will begin immediately and conclude no later than April 30, 2025. The U.S. Department of Commerce will review applications and inform applicants of selection decisions on a rolling basis. Applications received after April 30, 2025 will be considered only if space and scheduling constraints permit.

Contacts

Jennifer Woods, Director, International Trade Administration, Boise, Idaho, United States, Tel: +1 208 955 6694, Email: jennifer.woods@trade.gov

Daniel Pint, Commercial Officer, U.S. Consulate General, Istanbul, Türkiye, Tel: +90 212 335 9224, Email: daniel.pint@trade.gov

James Lindley, Commercial Counselor, U.S. Embassy to Poland, Warsaw, Poland, Tel: +48 538 551 380, Email: james.lindley@trade.gov

Katarzyna Szyndel, Commercial Specialist, U.S. Embassy to Poland, Warsaw, Poland, Tel: +48 795 146 261, Email: Katarzyna.Szyndel@trade.gov

Yasue Pai, Principal Commercial Officer, U.S. Consulate General, Istanbul, Türkiye, Tel: +90 212 335 9000, Email: yasue.pai@trade.gov

Jaron Bass, International Trade Specialist, Office of Transportation and Machinery, Washington, United States, Tel: +1 202 839 2357, Email: jaron.bass@trade.gov

Perim Akguner, Commercial Specialist, U.S. Consulate General, Istanbul, Türkiye, Tel: +90 212 335 9197, Email: perim.akguner@trade.gov

Ethan Talbott, Deputy Senior Commercial Officer, U.S. Embassy to Poland, Warsaw, Poland, Tel: +48 604 250 114, Email: ethan.talbott@trade.gov

Omar Oweiss, Senior International Trade Specialist, Office of Central and Southeast Europe | Bulgaria, Hungary, Kosovo, North Macedonia and Poland Desk, International Trade Administration, Washington, United States, Tel: (202) 495-9334, Email: omar.oweiss@trade.gov

Leo Ayala, International Trade Specialist/Türkiye Desk Officer, International Trade Administration, Washington, United States, Tel: +1 202 482 1632, Email: leo.ayala@trade.gov

Gemal Brangman,
Director, ITA Events Management Task Force.

[FR Doc. 2024-19784 Filed 9-3-24; 8:45 am]

BILLING CODE 3510-DR-P